DEPARTMENT OF DEFENSE

Department of the Army, Corps of Engineers

33 CFR Part 203

Natural Disaster Procedures: Preparedness, Response, and Recovery Activities of the Corps of Engineers

AGENCY: U.S. Army Corps of Engineers, Department of the Army, DOD.

ACTION: Proposed revision to the regulations; extension of comment period.

SUMMARY: On February 26, 2002, the U.S. Army Corps of Engineers proposed to revise its regulations to reflect current policy, add features required by the Water Resources Development Act of 1996 (WRDA 96)(Pub.L. 104-303), and streamline certain procedures concerning Corps authority addressing disaster preparedness, response, and recovery activities. WRDA 96 additions include the option to provide nonstructural alternatives in lieu of structural repairs to levees damaged by flood events, and the provision of a levee owner's manual. Other significant changes include a change in the cost share provision for rehabilitation of both Federal and non-Federal flood control works, expansion of investigation ability for potential Advance Measures work, and a streamlined approach for requests for assistance from Native American tribes and Alaska Native Corporations.

The Corps sought comment on the proposed revision to the regulations on or before April 29, 2002. In response to comments from the public requesting additional time to fully analyze the issues and prepare comments, we are extending the comment period on the proposed revision to the regulations to June 28, 2002.

DATES: Comments on the proposed revision to the regulations must be submitted on or before June 28, 2002.

ADDRESSES: Send written comments on the proposed revision to the regulations to HQUSACE, ATTN: CECW-OE, 441 G Street, NW., Washington, DC 20314-1000.

FOR FURTHER INFORMATION CONTACT: For information on the proposed revision to the regulations, contact Mr. Robert K. Grubbs, P.E., Headquarters, U.S. Army Corps of Engineers, Civil Emergency Management Branch, CECW-OE, at (202) 761-4561. Corps of Engineers, ATTN CECW-OR, 20 Massachusetts Avenue, Washington, DC 20314-1000, phone: (202) 761-0199.

Dated: April 19, 2002.
Karen Durham-Aguilera,
Acting Chief, Operations Division, Directorate of Civil Works.

[FR Doc. 02-10124 Filed 4-24-02; 8:45 am]

BILLING CODE 3710-92-P